DEPARTMENT OF ENERGY

Federal Energy Regulatory Commission

[Docket No. RP04-260-000]

Dauphin Island Gathering Partners; Notice Rescinding Prior Notice

April 29, 2004.

On April 23, 2004, the Commission issued a “Notice of Proposed Changes in FERC Gas Tariff” in Docket No. RP04-260-000. This proceeding has been redocketed as Docket No. CP99-16-001. The April 23, 2004, Notice in Docket No. RP04-260-000 is hereby rescinded.

Linda Mitry,
Acting Secretary.

[FR Doc. E4-1021 Filed 5-4-04; 8:45 a.m.]

BILLING CODE 6717-01-P